DEPARTMENT OF HOUSING AND URBAN DEVELOPMENT

[Docket No. FR-5288-N-16]

Notice of Proposed Information Collection for Public Comment; Section 901 Implementation

AGENCY: Office of the Assistant Secretary for Public and Indian Housing (PIH), HUD.

ACTION: Notice.

SUMMARY: The proposed information collection requirements described below will be submitted to the Office of Management and Budget (OMB) for review, as required by the Paperwork Reduction Act. The Department is soliciting public comments on the subject proposal.

DATES: Comments Due Date: February 22, 2010.

ADDRESSES: Interested persons are invited to submit comments regarding this proposal. Comments should refer to the proposal by name/or OMB Control number and should be sent to: Lillian L. Deitzer, Departmental Reports Management Officer, QDAM, Department of Housing and Urban Development, 451 7th Street, SW., Room 4178, Washington, DC 20410-5000; telephone 202.402.8048, (this is not a toll-free number) or e-mail Ms. Deitzer at Lillian.L.Deitzer@hud.gov for a copy of the proposed forms, or other available information. Persons with hearing or speech impairments may access this number through TTY by calling the toll-free Federal Information Relay Service at (800) 877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-708-0713, (this is not a toll-free number). Persons with hearing or speech impairments may access this number through TTY by calling the toll-free Federal Information Relay Service at (800) 877-8339. (Other than the HUD USER information line and TTY numbers, telephone numbers are not toll-free.)

SUPPLEMENTARY INFORMATION: The Department will submit the proposed information collection to OMB for review, as required by the Paperwork Reduction Act of 1995 (44 U.S.C. Chapter 35, as amended). Division B of the Department of Defense Emergency Supplemental Appropriations to address Hurricanes in the Gulf of Mexico and Pandemic Influenza Act, 2006 (Section 901 of Pub. L. 109-148, enacted on December 30, 2005), authorized PHAs in federally declared disaster areas as a result of Hurricanes Katrina and Rita to combine or use for other program purposes Housing Choice Voucher (HCV) and public housing operating and capital funds under sections 8(o) and 9(d) and (e) of the U.S. Housing Act of 1937 (“the Act”) in order to aid families that were receiving assistance under those programs before the hurricanes and were displaced from their housing after the hurricanes.

HUD implemented Section 901 through publication in the Federal Register on July 28, 2006, of FR-5067-N-01 (Volume 71, Page 42996) entitled Implementation Guidance for Section 901 of the Emergency Supplemental Appropriations to Address Hurricanes in the Gulf of Mexico, and Pandemic Influenza Act, 2006 (“the Section 901 implementation guidance”). HUD subsequently published notice FR-5067-N-04 on December 17, 2008 (Volume 73, page 76673) extending to the PHAs most heavily affected by Hurricanes Katrina and Rita the flexibility to combine funds through CY 2008 and 2009. Additionally, HUD published FR-5067-N-02 on October 30, 2006, (Volume 71, Page 63340) to extend the deadline for submitting fungibility plans to November 21, 2006, and permit combined funds to be used for eligible purposes under the Housing Choice Voucher program.

Section 4803 of the U.S. Troop Readiness, Veterans' Care, Katrina Recovery, and Iraq Accountability Appropriations Act, 2007 (Pub. L. No. 110-28 enacted May 25, 2007) extended authority for this flexibility to CY 2006 and 2007.

Section 11003 of the Consolidated Security, Disaster Assistance, and Continuing Appropriations Act, 2009 (Pub. L. 110-329) extended authority for fungibility to CY 2008 and 2009. Division B of the Department of Defense, Emergency Supplemental Appropriations to Address Hurricanes in the Gulf of Mexico, and Pandemic Influenza Act, 2006 (Pub. L. 109-148; approved December 30, 2005), among other things, makes emergency supplemental appropriations to address the hurricane devastation in the Gulf of Mexico. Section 901 of this supplemental appropriations act permits eligible PHAs to combine their Capital Funds (section 9(d) of the United States Housing Act of 1937 (42 U.S.C. 1437 et seq.) (1937 Act)), Operating Funds (section 9(e) of the 1937 Act), and Housing Choice Voucher Funds (section 8(o) of the 1937 Act) to assist families who were displaced by Hurricane Katrina or Rita. HUD has issued a Notice in the Federal Register providing guidance on how eligible PHAs may implement this flexibility and how PHAs must report the planned activities, accomplishments, and funds utilization from using this flexibility.

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public and Indian Housing, Section 901 Notice of Intent and Fungibility Plan, Quarterly Reports, and Final Report;

OMB Control Number: 2577-0245.

Description of the need for the information and proposed use: The Notice of Intent is necessary for HUD to be informed about which eligible PHAs elect to invoke the funding flexibility authorized by section 901 of the Emergency Supplemental Appropriations (Pub. L. 109-148). The Fungibility Plan and Reports are necessary for HUD to know how eligible PHAs plan to reallocate and spend these funds, the rate such funds are obligated and expended, and the results in using this funding flexibility. Fungibility Plans proposing to use Section 901 flexibility and funding to develop new housing units will be required to include new development proposals following the format required by 24 CFR 941.606. Fungibility Plans proposing to use Section 901 flexibility to pay for public housing renovations will require submission of Capital Fund Program Annual Statements identifying work items and costs. These collections are approved under separate OMB numbers. Under Section 901, funds from one program used for another program's purposes must follow the rules of the program in which the funds will be used.

Agency form numbers, if applicable: None.

Members of affected public: Eligible Public Housing Agencies in the areas most heavily impacted by Hurricanes Katrina and Rita.

Estimation of the total number of hours needed to prepare the information collection including number of respondents, frequency of response, and hours of response:

Notification of Intent and Fungibility Plan. This is a one-time submission estimated to take 40 hours for each of up to twelve eligible PHAs that submitted plans from 2006 through 2009. The original burden estimate for this information collection was 6,624 hours assuming all ninety-six PHAs eligible for Section 901 flexibility would opt to use it. A later burden estimate of 1,248 hours was submitted, when in 2006, only eight out of ninety-six eligible PHAs submitted plans to use Section 901 flexibility. In 2007, seven out of the eight 2006 PHAs and one new PHA submitted plans to use Section 901 flexibility. In 2008, seven out of the nine 2006 and 2007 PHAs and three new PHAs submitted plans to use Section 901 flexibility. Ten or fewer respondents have submitted plans to use Section 901 flexibility each year. One PHA submitted a plan in 2009. A total of ten PHAs have been approved to use and must report the results of Section 901 flexibility. A new estimate of burden for Section 901 Notifications of Intent and Fungibility Plans and subsequent periodic reporting is 1,680 hours based on requirements for 10 PHAs to prepare and submit these documents.

Quarterly Progress Reports of Obligations and Expenditures for Section 901 Designated Funds and Activities. In order to permit HUD to adequately monitor PHA progress in carrying out Section 901 approved activities and obligating and expending Section 901 approved funds in a timely manner, PHAs will report the amount of Section 901 funds obligated and expended for each approved activity for the quarterly reporting period, and the outstanding balance of unexpended Section 901 funds. Response time per quarterly report, including the time to research records containing documentation needed to prepare the quarterly reports is estimated to average sixteen hours for each of the PHAs with approved Section 901 plans. Reports will be submitted by each PHA four times per year for five consecutive years for each calendar year of funding. Section 901 PHAs have five years to expend funds designated for Section 901 flexibility for a given calendar year (2006, 2007, 2008, and/or 2009). Total annual reporting burden for ten PHAs to submit quarterly reports of their progress in carrying out Section 901 approved activities and rates of obligations and expenditures for CY 2006, 2007, 2008, and 2009 funding is estimated at 640 hours.

Annual Report. Annual reports will address: (1) PHA progress and results in carrying out Section 901 activities, (2) the amount of program funds approved under Section 901 flexibility for other program uses, (3) the amount of funds obligated during the year and cumulatively for Section 901 approved activities, and (4) the amount of funds expended annually and cumulatively for Section 901 approved activities. These reports are expected to address progress-to-date during the five-year expenditure period for initiating and getting Section 901 activities under-way, and reporting on challenges or unforeseen obstacles.

Final Report. This is a one-time submission estimated to take forty hours for each of up to ten PHAs, including the Housing Authority of New Orleans, for a total reporting burden of 400 hours. The final report is expected to address all programmatic and financial matters pertinent to Section 901 implementation, including the PHA's performance in carrying out all approved Section 901 activities, including but not limited to public housing redevelopment and capital improvements, public housing mixed-finance development, affordable housing development coupled with use of project-based vouchers, homeownership development and incentives, property acquisitions, and re-occupancy programs; in addition to accounting for the final obligation and expenditure of Section 901 designated funds and remaining balances.

Status of the proposed information collection: Extension of a previously approved collection.

Authority: Section 3506 of the Paperwork Reduction Act of 1995, 44 U.S.C. Chapter 35, as amended.

Dated: December 17, 2009.
Merrie Nichols-Dixon,
Deputy Director for Policy, Programs, and Legislative Initiatives.

[FR Doc. E9-30513 Filed 12-22-09; 8:45 am]

BILLING CODE 4210-67-P